SMALL BUSINESS ADMINISTRATION

[Declaration of Disaster #3572]

Commonwealth of Massachusetts

As a result of the President's major disaster declaration on April 21, 2004, I find that the counties of Essex, Middlesex, Norfolk, Suffolk, and Worcester in the Commonwealth of Massachusetts constitute a disaster area due to damages caused by flooding occurring on April 1, 2004 and continuing. Applications for loans for physical damage as a result of this disaster may be filed until the close of business on June 21, 2004 and for economic injury until the close of business on January 21, 2005 at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Bristol, Franklin, Hampden, Hampshire, and Plymouth Counties in the Commonwealth of Massachusetts; Providence County in the State of Rhode Island; Tolland and Windham Counties in the State of Connecticut; and Cheshire, Hillsborough, and Rockingham Counties in the State of New Hampshire.

The interest rates are:

| Percent
For Physical Damage:
Homeowners With Credit Available Elsewhere | 6.125
Homeowners Without Credit Available Elsewhere | 3.125
Businesses With Credit Available Elsewhere | 5.800
Businesses and Non-Profit Organizations Without Credit Available Elsewhere | 2.900
Others (Including Non-Profit Organizations) With Credit Available Elsewhere | 4.875
For Economic Injury:
Businesses and Small Agricultural Cooperatives Without Credit Available Elsewhere | 2.900

The number assigned to this disaster for physical damage is 357206. For economic injury the number is 9ZA300 for Massachusetts; 9ZA400 for New Hampshire; 9ZA500 for Rhode Island; and 9ZA600 for Connecticut.

(Catalog of Federal Domestic Assistance Program Nos. 59002 and 59008).

Dated: April 23, 2004.
Cheri L. Cannon,
Acting Associate Administrator for Disaster Assistance.

[FR Doc. 04-9950 Filed 4-30-04; 8:45 am]

BILLING CODE 80225-01-M